DEPARTMENT OF TRANSPORTATION

Federal Aviation Administration

14 CFR Part 39

[Docket No. 2000-NM-223-AD; Amendment 39-12183; AD 2001-08-06]

RIN 2120-AA64

Airworthiness Directives; Airbus Model A300 B4-620, A310-203, A310-221, and A310-222 Series Airplanes

AGENCY: Federal Aviation Administration, DOT.

ACTION: Final rule.

SUMMARY: This amendment adopts a new airworthiness directive (AD), applicable to certain Airbus Model A300 B4-620, A310-203, A310-221, and A310-222 series airplanes, that requires repetitive inspections of fuselage frame 07 in the upper frame section assemblies of the lateral cockpit windows, and corrective action, if necessary. Accomplishment of certain corrective actions extends the repetitive inspection interval. The actions specified by this AD are intended to detect and correct fatigue cracking in that area, which could result in reduced structural integrity of the airplane.

DATES: Effective May 29, 2001.

The incorporation by reference of certain publications listed in the regulations is approved by the Director of the Federal Register as of May 29, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A300 B4-620, A310-203, A310-221, and A310-222 series airplanes was published in the Federal Register on January 9, 2001 (66 FR 1610). That action proposed to require repetitive inspections of fuselage frame 07 in the upper frame section assemblies of the lateral cockpit windows, and corrective action, if necessary. That action also proposed to require accomplishment of certain corrective actions, which would extend the repetitive inspection interval.

Comments

Interested persons have been afforded an opportunity to participate in the making of this amendment. Due consideration has been given to the single comment received.

Other Models Subject to Unsafe Condition

The commenter, Airbus, advises that Model A300 B2 and A300 B4 series airplanes are also subject to the unsafe condition identified by this AD. However, the area included in the inspection required by this AD is also included in the A300 Supplemental Structural Inspection Document (SSID). Airbus further advises that the Direction Générale de l'Aviation Civile (DGAC), which is the airworthiness authority for France, will mandate this inspection by a separate French airworthiness directive.

The FAA acknowledges that, while there may be merit to the commenter's concerns, this AD is not the appropriate context in which to address those concerns. Adding airplanes to the applicability would alter the requirements of the proposed AD, so additional rulemaking would be required. The FAA finds that to delay this action would be inappropriate in light of the identified unsafe condition. No change to this final rule is necessary in this regard.

Change to Repair/Inspection Approval

Paragraph (b) of the proposed AD would have required follow-on corrective actions to be accomplished in accordance with a method approved by the FAA. However the DGAC was inadvertently omitted as an additional acceptable approval source for the actions identified in paragraph (b). In light of the type of repair or inspection that would be required to address the identified unsafe condition, and in consonance with existing bilateral airworthiness agreements, the FAA has determined that, for this AD, a repair or inspection approved by either the FAA or the DGAC would be acceptable for compliance with this AD. Paragraph (b) of the final rule has been revised accordingly.

Conclusion

After careful review of the available data, including the comment noted above, the FAA has determined that air safety and the public interest require the adoption of the rule with the changes previously described.

Cost Impact

The FAA estimates that 27 airplanes of U.S. registry will be affected by this AD, that it will take approximately 1 work hour per airplane to accomplish the inspection, and that the average labor rate is $60 per work hour. Based on these figures, the cost impact of the AD on U.S. operators is estimated to be $1,620, or $60 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-08-06 Airbus Industrie: Amendment 39-12183. Docket 2000-NM-223-AD.

Applicability: Model A300 B4-620, A310-203, A310-221, and A310-222 series airplanes; certificated in any category; as listed in Airbus Service Bulletin A300-53-6120 or A310-53-2109, both dated May 5, 2000; excluding airplanes on which Airbus Modification 3632 has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct fatigue cracking of fuselage frame 07 in the upper frame section assembly of the lateral cockpit windows, which could result in reduced structural integrity of the airplane, accomplish the following:

Inspection and Corrective Actions

(a) Before the accumulation of 25,000 total flight cycles, or within 3,000 flight cycles after the effective date of this AD, whichever occurs later: Perform a detailed visual inspection to detect cracking of fuselage frame 07 in the left and right upper frame section assemblies of the lateral cockpit windows, in accordance with Airbus Service Bulletin A300-53-6120 (for Model A300-600 series airplanes) or A310-53-2109 (for Model A310 series airplanes), both dated May 5, 2000; as applicable.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no cracking is found: Repeat the inspection thereafter at least every 7,000 flight cycles.

(2) If any cracking is found and the cracking is only in “area A,” as depicted in view B of Figure 4 of the service bulletin: Before further flight, do the actions specified by either paragraph (a)(2)(i) or (a)(2)(ii) of this AD.

(i) Do a temporary repair per the applicable service bulletin. Within 3,000 flight cycles thereafter, do a permanent repair per the applicable service bulletin. Within 32,000 flight cycles thereafter, except as required by paragraph (b) of this AD, repeat the inspection specified by paragraph (a) of this AD.

(ii) Do a permanent repair per the applicable service bulletin. Within 32,000 flight cycles thereafter, except as required by paragraph (b) of this AD, repeat the inspection specified by paragraph (a) of this AD.

(3) If any cracking is in “area B,” or in both “area A” and “area B” as depicted in view B of Figure 4 of the service bulletin: Before further flight, do a permanent repair per the applicable service bulletin. Within 32,000 flight cycles thereafter, except as required by paragraph (b) of this AD, repeat the inspection specified by paragraph (a) of this AD.

(b) If the service bulletin specifies to contact Airbus for further instructions for a repair or inspection: Prior to further flight, perform a repair or inspection per a method approved by the Manager, International Branch, ANM-116, FAA, Transport Airplane Directorate; or the Direction Générale de l'Aviation Civile (DGAC) (or its delegated agent).

Alternative Methods of Compliance

(c) An alternative method of compliance or adjustment of the compliance time that provides an acceptable level of safety may be used if approved by the Manager, International Branch, ANM-116. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Incorporation by Reference

(e) Except as required by paragraph (b) of this AD, the actions shall be done in accordance with Airbus Service Bulletin A300-53-6120, dated May 5, 2000; or Airbus Service Bulletin A310-53-2109, dated May 5, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2000-263-314(B), dated June 28, 2000.

Effective Date

(f) This amendment becomes effective on May 29, 2001.

Issued in Renton, Washington, on April 12, 2001.
Donald L. Riggin,
Acting Manager, Transport Airplane Directorate, Aircraft Certification Service.

[FR Doc. 01-9665 Filed 4-20-01; 8:45 am]

BILLING CODE 4910-13-U